DEPARTMENT OF THE INTERIOR

Bureau of Safety and Environmental Enforcement

[Docket ID BSEE-2013-0006; OMB Number 1014-0001; 134E1700D2 EEEE500000 ET1SF0000.DAQ000]

Information Collection Activities: Oil and Gas Well-Workover Operations; Submitted for Office of Management and Budget (OMB) Review; Comment Request

ACTION: 30-Day notice.

SUMMARY: To comply with the Paperwork Reduction Act of 1995 (PRA), we are notifying the public that we have submitted to OMB an information collection request (ICR) to renew approval of the paperwork requirements in the regulations under Subpart F, Oil and Gas Well-Workover Operations. This notice also provides the public a second opportunity to comment on the revised paperwork burden of these regulatory requirements.

DATES: You must submit comments by December 13, 2013.

ADDRESSES: Submit comments by either fax (202) 395-5806 or email (OIRA_Submission@omb.eop.gov) directly to the Office of Information and Regulatory Affairs, OMB, Attention: Desk Officer for the Department of the Interior (1014-0001). Please provide a copy of your comments to Bureau of Safety and Environmental Enforcement (BSEE) by any of the means below.

• Electronically: go to http://www.regulations.gov. In the Search box, enter BSEE-2013-0006 then click search. Follow the instructions to submit public comments and view all related materials. We will post all comments.

• Email: nicole.mason@bsee.govmailto:cheryl.blundon@mms.gov, fax (703) 787-1546, or mail or hand-carry comments to: Department of the Interior; Bureau of Safety and Environmental Enforcement; Regulations and Standards Branch; Attention: Nicole Mason; 381 Elden Street, HE3313; Herndon, Virginia 20170-4817. Please reference 1014-0001 in your comment and include your name and return address.

FOR FURTHER INFORMATION CONTACT: Nicole Mason, Regulations and Standards Branch, (703) 787-1605, to request additional information about this ICR. To see a copy of the entire ICR submitted to OMB, go to http://www.reginfo.gov (select Information Collection Review, Currently Under Review).

SUPPLEMENTARY INFORMATION:

Title: 30 CFR Part 250, Subpart F, Oil and Gas Well-Workover Operations.

OMB Control Number: 1014-0001

Abstract: The Outer Continental Shelf (OCS) Lands Act, as amended (43 U.S.C. 1331 et seq. and 43 U.S.C. 1801 et seq.), authorizes the Secretary of the Interior to prescribe rules and regulations to administer leasing of mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

These authorities and responsibilities are among those delegated to BSEE. The regulations at 30 CFR Part 250, Subpart F, Oil and Gas Well-Workover Operations are the subject of this collection. This request also covers the related Notices to Lessees and Operators (NTLs) that BSEE issues to clarify, supplement, or provide additional guidance on some aspects of our regulations.

The BSEE uses the information collected to analyze and evaluate planned well-workover operations to ensure that these operations result in personnel safety and protection of the environment. They use this evaluation in making decisions to approve, disapprove, or to require modification to the proposed well-workover operations. Specifically, BSEE uses the information collected to:

• Review log entries of crew meetings to verify that safety procedures have been properly reviewed.

• Review well-workover procedures relating to hydrogen sulfide (H2S) to ensure the safety of the crew in the event of encountering H2S.

• Review well-workover diagrams and procedures to ensure the safety of well-workover operations.

• Verify that the crown block safety device is operating and can be expected to function and avoid accidents.

• Verify that the proposed operation of the annular preventer is technically correct and will provide adequate protection for personnel, property, and natural resources.

• Verify the reasons for postponing blowout preventer (BOP) tests, verify the state of readiness of the equipment and ascertain that the equipment meets safety standards and requirements, ensure that BOP tests have been conducted in the manner and frequency to promote personnel safety and protect natural resources. Specific testing information must be recorded to verify that the proper test procedures were followed.

• Assure that the well-workover operations are conducted on well casing that is structurally competent.

Most responses are mandatory; while others are to obtain or retain benefits. The BSEE will protect proprietary information according to the Freedom of Information Act (5 U.S.C. 552) and its implementing regulations (43 CFR Part 2); 30 CFR 250.197, Data and information to be made available to the public or for limited inspection; and 30 CFR part 252, OCS Oil and Gas Information Program.

Frequency: On occasion, weekly, monthly, biennially, and varies by section.

Description of Respondents: Potential respondents comprise Federal OCS oil, gas, and sulphur lessees and/or operators, and holders of pipeline rights-of-way.

Estimated Reporting and Recordkeeping Hour Burden: The estimated annual hour burden for this information collection is a total of 53,156 hours. The following chart details the individual components and estimated hour burdens. In calculating the burdens, we assumed that respondents perform certain requirements in the normal course of their activities. We consider these to be usual and customary and took that into account in estimating the burden.

Citation 30 CFR 250, Subpart F and NTL | Reporting requirement | Hour burden | Average number of annual reponses | Annual burden hours (rounded)
Requests
602 | Request exceptions prior to moving well-workover equipment | 3.75 | 30 requests | 113
605; 613; 616(a), (f)(4); 617(d) | Request approval to begin subsea well-workover operations; submit Forms BSEE-0124 (include, if required, alternate procedures and equipment; stump test procedures plan) and BSEE-0125; and all supporting documentation | Burden covered under 1014-0018. |  | 0
612 | Request establishment/amendment/cancellation of field well-workover rules | 5 | 23 requests | 115
614(d) | Request approval from the District Manager to displace kill-weight fluids to an underbalanced state; submit detailed written procedures with your APM | 4 | 51 requests | 204
617(a) | Request exception to rated working pressure of the BOP equipment; request exception to annular-type BOP testing | 26 | 270 requests | 7,020
618(a)(2) | Request approval to use alternative method to inspect a marine riser | Burden covered under 1014-0022. |  | 0
600-620 | General departure and alternative compliance requests not specifically covered elsewhere in Subpart F regulations | 34 | 409 requests | 13,906
Subtotal |  |  | 783 responses | 21,358
Posting
614(b) | Post number of stands of drill pipe or workover string and drill collars that may be pulled prior to filling the hole and equivalent well-control fluid volume | 0.75 | 306 postings | 230
Subtotal |  |  | 306 responses | 230
Submittals/Notifications
602 | Notify BSEE of any rig movement within Gulf of Mexico (Form BSEE-0144) | Burden covered under 1014-0018 |  | 0
615 | Submit a description of your BOP and its components; schematic drawings; independent third party verification and all supporting information (evidence showing appropriate licenses, has expertise/experience necessary to perform required verifications, etc.) with your APM | 22.75 | 440 submittals | 10,010
615(e)(2)(ii) | Allow BSEE access to witness testing, inspections, and information verification. Notify District Manager at least 72 hours prior to shearing ram tests | 0.75 | 14 notifications | 11
617(h)(1)(ii) | Notify District Manager at least 72 hours prior to stump/initial test on seafloor | 0.5 | 51 notifications | 26
619; NTL | Notify BSEE if sustained casing pressure is observed on a well | 2 | 508 notifications | 1,016
619(b) | Submit results of pressure test, caliper, or otherwise evaluate tubing & wellhead equipment casing (every 30 days during prolonged operations); request written approval | 5 | 25 reports | 125
Subtotal |  |  | 1,038 responses | 11,188
Record/Document
606 | Instruct crew members in safety requirements of operations to be performed; document meetings; make available to BSEE for review | 1.75 | 612 workovers × 5 meetings = 3,060 | 5,355
611 | Document results weekly of traveling-block safety device in the operations log | 1.5 | 351 workovers × 3 results = 1,053 | 1,580
617(b)(2) | Record reason for postponing BOP system tests in operations log | 1.25 | 31 postponed tests | 39
617(f); 618(a)(1) | Record test pressures during BOP and coiled tubing tests for well-workovers on a pressure chart or with a digital recorder; certify the information is correct | 2.75 | 440 workovers × 3 recordings = 1,320 | 3,630
617(g); 618(a)(1) | Record time, date, and results of all pressure tests, actuations, inspections, and crew drills of the BOP system components and risers in the operations log during well-workovers; retain records for 2 years; make available to BSEE | 4.75 | 440 workovers × 3 recordings = 1,320 | 6,270
617(h)(l)* | Document all test results of your ROV intervention functions including how you test each ROV function; submit test procedures with your APM for District Manager approval; make available to BSEE upon request | 10 | 51 workovers | 510
617(h)(2)* | Document all autoshear and deadman test results; submit test procedures with your APM for District Manager approval; make available to BSEE upon request | 1 | 51 workovers | 51
618(a) | Document the procedures used for BOP inspections; record results; maintain records for 2 years; make available to BSEE upon request | 7 days × 12 hrs/day = 84 | 99 rigs/once every 3 years = 33 per year | 2,772
618(b) | Document the procedures used for BOP maintenance; record results; maintain records for 2 years; make available to BSEE upon request | 1.75 | 99 rigs | 173
Subtotal |  |  | 7,018 responses | 20,380
Total Burden |  |  | 9,145 Responses | 53,156

Estimated Reporting and Recordkeeping Non-Hour Cost Burden: We have identified no paperwork non-hour cost burdens associated with the collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on August 12, 2013, we published a Federal Register notice (78 FR 48895) announcing that we would submit this ICR to OMB for approval. The notice provided the required 60-day comment period. Also, 30 CFR 250.199 explains that BSEE will accept comments at any time on the information collection requirements and burdens of our 30 CFR 250 regulations. We display the OMB control number and provide the address to which they should send comments. We received one comment in response to the Federal Register notice. The comment was not germane to the paperwork burdens of this information collection.

Public Availability of Comments: Before including your address, phone number, email address, or other personal identifying information in your comment, you should be aware that your entire comment—including your personal identifying information—may be made publicly available at any time. While you can ask us in your comment to withhold your personal identifying information from public review, we cannot guarantee that we will be able to do so.

BSSE Information Collection Clearance Officer: Cheryl Blundon (703) 787-1607.

Dated: October 24, 2013.
Robert W. Middleton,
Deputy Chief, Office of Offshore Regulatory Programs.

[FR Doc. 2013-27073 Filed 11-12-13; 8:45 am]

BILLING CODE 4310-VH-P